DEPARTMENT OF COMMERCE

Foreign-Trade Zones Board

[B-42-2012]

Foreign-Trade Zone 70—Detroit, MI; Expansion of Subzone; Marathon Petroleum Company LP, (Oil Refinery) Detroit, MI

An application has been submitted to the Foreign-Trade Zones Board (the Board) by the Greater Detroit Foreign-Trade Zone, Inc., grantee of FTZ 70, requesting an expansion of Subzone 70T, on behalf of Marathon Petroleum Company LP in Detroit, Michigan. The application was submitted pursuant to the provisions of the Foreign-Trade Zones Act, as amended (19 U.S.C. 81a-81u), and the regulations of the Board (15 CFR part 400). It was formally filed on June 1, 2012.

Subzone 70T was approved by the Board on March 10, 1997 (Board Order 879, 62 FR 13594, 3-21-1997), its NPF authority was extended on August 24, 2000 (Board Order 1116, 65 FR 52696, 8-30-2000), and its capacity was expanded on April 14, 2006 (Board Order 1447, 71 FR 23895, 4-25-2006). The subzone consists of four sites and connecting pipelines in Wayne County, Michigan: Site 1 (183 acres)—main refinery complex located at 1300 South Fort Street on the Detroit River, Detroit and Melvindale; Site 2 (15 acres)—River Rouge Asphalt Terminal located at 301 South Fort Street, 1 mile east of the refinery, Detroit; Site 3 (4 acres)—Fordson Island Barge Dock located at 13150 Powell Street, 2 miles northeast of the refinery, Dearborn; and, Site 4 (44 acres)—Woodhaven Caverns located at 24400 Allen Road, 12 miles south of the refinery, Woodhaven.

The current request involves expanding Site 1 by 22.2 acres to include an adjacent parcel and removing Site 3 from the subzone. The approved scope of authority would remain unchanged.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is August 6, 2012. Rebuttal comments in response to material submitted during the foregoing period may be submitted during the subsequent 15-day period to August 21, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: June 1, 2012.
Elizabeth Whiteman,
Acting Executive Secretary.

[FR Doc. 2012-13861 Filed 6-6-12; 8:45 am]

BILLING CODE P